DEPARTMENT OF COMMERCE

International Trade Administration

[A-570-073]

Common Alloy Aluminum Sheet From the People's Republic of China: Preliminary Results of Antidumping Duty Administrative Review and Partial Recission of Antidumping Administrative Review; 2021-2022

AGENCY: Enforcement and Compliance, International Trade Administration, Department of Commerce.

SUMMARY: The U.S. Department of Commerce (Commerce) preliminarily determines that all companies subject to this review are part of the China-wide entity because they did not establish eligibility for a separate rate. Additionally, Commerce is rescinding this review with respect to Yinbang Clad Material Co., Ltd. (Yinbang Clad). Interested parties are invited to comment on these preliminary results of this review.

DATES: Applicable November 16, 2022.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Background

On February 8, 2019, Commerce published the antidumping duty order on common alloy aluminum sheet from the People's Republic of China (China).¹ On February 8, 2022, we published a notice of opportunity for interested parties to request that Commerce conduct an administrative review of the Order.² On February 28, 2022, we received requests for an administrative review from Valeo North America, Inc (Valeo),³ and the Aluminum Association Common Alloy Aluminum Sheet Trade Enforcement Working Group and its individual members ⁴ (the domestic industry).⁵ On April 12, 2022, Commerce published the initiation notice of an administrative review of the Order with respect to Alcha International Holdings Limited (Alcha International), Jiangsu Alcha Aluminum Co., Ltd.,⁶ and Yinbang Clad.⁷ On April 25, 2022, the domestic industry withdrew its request for review with respect to Yinbang Clad.⁸ On May 12, 2022, Jiangsu Alcha and Alcha International submitted a letter stating that neither company was entitled to a separate rate, due to changes in the companies' government control status.⁹

¹ See Common Alloy Aluminum Sheet from the People's Republic of China: Antidumping Duty Order, 84 FR 2813 (February 8, 2019) (Order).

² See Antidumping or Countervailing Duty Order, Finding, or Suspended Investigation; Opportunity to Request Administrative Review and Join Annual Inquiry Service List, 87 FR 7112 (February 8, 2022).

³ See Valeo's Letter, “Common Alloy Aluminum Sheet from the People's Republic of China: Request for Administrative Review,” dated February 28, 2022.

⁴ The individual members of the Aluminum Association Common Alloy Aluminum Sheet Trade Enforcement Working Group are: Arconic Corporation, Commonwealth Rolled Products, Inc., Constellium Rolled Products Ravenswood, LLC, Jupiter Aluminum Corporation, JW Aluminum Company, and Novelis Corporation.

⁵ See Domestic Industry's Letter, “3rd Administrative Review of the Antidumping Order on Common Alloy Aluminum Sheet from the People's Republic of China—Domestic Industry's Request for 2021/2022 Administrative Review,” dated February 28, 2022.

⁶ Commerce previously determined that the following companies should be treated as a single entity: Alcha International; Jiangsu Alcha Aluminum Co., Ltd.; and Baotou Alcha Aluminum Co., Ltd. (Baotou Alcha). Additionally, Commerce previously determined that Jiangsu Alcha Aluminum Group Co., Ltd. (Jiangsu Alcha) is the successor-in-interest to Jiangsu Alcha Aluminum Co., Ltd. See Common Alloy Aluminum Sheet from the People's Republic of China: Final Results of Antidumping Duty Administrative Review, Final Successor-In-Interest Determination, and Final Determination of No Shipments; 2018-2020, 86 FR 74066, 74067 (December 29, 2021), unchanged in Common Alloy Aluminum Sheet from the People's Republic of China: Amended Final Results of Antidumping Duty Administrative Review, 2018-2020, 87 FR 6504 (February 4, 2022); see also Common Alloy Aluminum Sheet from the People's Republic of China: Final Results of Antidumping Duty Administrative Review; 2020-2021, 87 FR 54975 (September 8, 2022), as corrected by Common Alloy Aluminum Sheet from the People's Republic of China: Final Results of Antidumping Duty Administrative Review; 2020-2021; Correction, 87 FR 59059 (September 29, 2022). Accordingly, we are treating the single entity of Alcha International, Jiangsu Alcha, and Baotou Alcha (collectively, Alcha) as the companies under review in this proceeding.

⁷ See Initiation of Antidumping and Countervailing Duty Administrative Review, 87 FR 21619 (April 12, 2022) (Initiation Notice).

⁸ See the Domestic Industry's Letter, “3rd Administrative Review of the Antidumping Duty Order on Common Alloy Aluminum Sheet from the People's Republic of China—Domestic Industry's Partial Withdrawal of Review Request,” dated April 25, 2022 (Domestic Industry's Partial Withdrawal of Review).

⁹ See Jiangsu Alcha and Alcha International's Letter, “Common Alloy Aluminum Sheet from the People's Republic of China: Notice Regarding Alcha,” dated May 12, 2022 (Alcha International's May 12th Submission).

On October 26, 2022, we extended the deadline for these preliminary results of review, until November 8, 2022.¹⁰ The period of review (POR) is February 1, 2021, through January 31, 2022.

¹⁰ See Memorandum, “2021-2022 Administrative Review of the Antidumping Duty Order on Common Alloy Aluminum Sheet from the People's Republic of China: Extension of Deadline for Preliminary Results,” dated October 26, 2022.

For details regarding the events that occurred subsequent to the initiation of the review, see the Preliminary Decision Memorandum.¹¹ A list of topics discussed in the Preliminary Decision Memorandum is included as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹¹ See Memorandum, “Decision Memorandum for the Preliminary Results of the 2021-2022 Antidumping Duty Administrative Review of Common Alloy Aluminum Sheet from the People's Republic of China,” dated concurrently with, and hereby adopted by, this notice (Preliminary Decision Memorandum).

Scope of the Order

The merchandise covered by the Order is common alloy aluminum sheet from China. For a complete description of the scope of the Order, see the Preliminary Decision Memorandum.

Methodology

Commerce is conducting this review in accordance with section 751(a)(1)(B) of the Tariff Act of 1930, as amended (the Act) and 19 CFR 351.213.

Partial Recission of Administrative Review

Pursuant to 19 CFR 351.213(d)(1), Commerce will rescind an administrative review, in whole or in part, if all parties that requested a review withdraw their requests within 90 days of the publication date of the notice of initiation of the requested review. The domestic industry withdrew its request for administrative review of Yinbang Clad within 90 days of the date of the publication of the Initiation Notice,¹² and no other interested parties requested a review of Yinbang Clad. Accordingly, Commerce is rescinding this review with respect to Yinbang Clad, in accordance with 19 CFR 351.213(d)(1).

¹² See Domestic Industry's Partial Withdrawal of Review.

Separate Rates

None of the companies within the Alcha entity submitted a separate rate application or certification. Further, Jiangsu Alcha and Alcha International submitted a letter stating they are not entitled to submit a separate rate application in this administrative review due to a change in their government control status.¹³ Accordingly, we preliminarily find that Alcha has not established its eligibility for a separate rate.¹⁴ For additional information, see the Preliminary Decision Memorandum.

¹³ See Alcha International's May 12th Submission.

¹⁴ See Initiation Notice (“All firms listed below that wish to qualify for separate rate status in the administrative reviews involving NME countries must complete, as appropriate, either a separate rate application or certification, as described below.”).

China-Wide Entity

In accordance with Commerce's policy, the China-wide entity will not be under review unless a party specifically requests, or Commerce self-initiates, a review of the China-wide entity.¹⁵ Because no party requested a review of the China-wide entity, the China-wide entity is not under review and the weighted-average dumping margin for the China-wide entity is not subject to change (i.e., 59.72 percent).¹⁶ Because Alcha did not demonstrate its eligibility for a separate rate, we preliminarily consider Alcha ¹⁷ to be part of the China-wide entity.

¹⁵ See Antidumping Proceedings: Announcement of Change in Department Practice for Respondent Selection in Antidumping Duty Proceedings and Conditional Review of the Nonmarket Economy Entity in NME Antidumping Duty Proceedings, 78 FR 65963 (November 4, 2013).

¹⁶ See Order.

¹⁷ Including Alcha International, Jiangsu Alcha, and Baotou Alcha.

Disclosure and Public Comment

Normally, Commerce discloses the calculations used in its analysis to parties in a review within five days of the date of publication of the notice of preliminary results, in accordance with 19 CFR 351.224(b). However, in this case, there are no calculations on the record to disclose.

Interested parties may submit case briefs no later than 30 days after the date of publication of these preliminary results of review in the Federal Register.¹⁸ Rebuttal briefs may be filed no later than seven days after case briefs are filed, all rebuttal briefs must be limited to comments raised in the case briefs.¹⁹ A table of contents, list of authorities used, and an executive summary of issues should accompany any briefs submitted to Commerce. The summary should be limited to five pages total, including footnotes.²⁰

¹⁸ See 19 CFR 351.309(c)(2).

¹⁹ See 19 CFR 351.309(d).

²⁰ See 19 CFR 351.309(c)(2), (d)(2).

Interested parties who wish to request a hearing, must submit a written request to the Assistant Secretary for Enforcement and Compliance, U.S. Department of Commerce, within 30 days after the date of publication of this notice in the Federal Register.²¹ Requests should contain the party's name, address, and telephone number, the number of individuals from the requesting party's firm that will attend the hearing, and a list of the issues the party intends to discuss at the hearing. Oral arguments at the hearing will be limited to issues raised in the briefs. If a request for a hearing is made, Commerce intends to hold the hearing at a date and time to be determined.²² Parties should confirm by telephone the date and time of the hearing two days before the scheduled date of the hearing.

²¹ See 19 CFR 351.310(c).

²² See 19 CFR 351.310(d).

All submissions must be filed electronically using ACCESS.²³ An electronically filed document must be received successfully in its entirety by Commerce's electronic records system, ACCESS, by 5:00 p.m. Eastern Time (ET) on the due date.²⁴ Note that Commerce has temporarily modified certain of its requirements for serving documents containing business proprietary information until further notice.²⁵

²³ See generally 19 CFR 351.303.

²⁴ See 19 CFR 351.303 (for general filing requirements); see also Antidumping and Countervailing Duty Proceedings: Electronic Filing Procedures; Administrative Protective Order Procedures, 76 FR 39263 (July 6, 2011).

²⁵ See Temporary Rule Modifying AD/CVD Service Requirements Due to COVID-19; Extension of Effective Period, 85 FR 41363 (July 10, 2020).

Unless otherwise extended, Commerce intends to issue the final results of this administrative review, which will include the results of its analysis of issues raised in any briefs, within 120 days of publication of these preliminary results of review in the Federal Register, pursuant to section 751(a)(3)(A) of the Act and 19 CFR 351.213(h).

Assessment Rates

Upon issuance of the final results, Commerce will determine, and U.S. Customs and Border Protection (CBP) shall assess, antidumping duties on all appropriate entries covered by this review, in accordance with 19 CFR 351.212(b)(1). If the preliminary results are unchanged for the final results, we will instruct CBP to apply an ad valorem assessment rate of 59.72 percent to all entries of subject merchandise during the POR which were exported by Alcha.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Commerce will instruct CBP to require a cash deposit for antidumping duties equal to the weighted-average amount by which the normal value exceeds U.S. price. The following cash deposit requirements will be effective for shipments of the subject merchandise from China entered, or withdrawn from warehouse, for consumption on or after the publication date of this notice in the Federal Register, as provided by section 751(a)(2)(C) of the Act: (1) for previously investigated or reviewed Chinese and non-Chinese exporters that have separate rates, the cash deposit rate will continue to be the exporter-specific rate established in the most recently completed segment of this proceeding; (2) for all Chinese exporters of subject merchandise which have not been found to be entitled to a separate rate, including Alcha, the cash deposit rate will be the rate for the China-wide entity (i.e., 59.72 percent) ²⁶ and (3) for all non-Chinese exporters of subject merchandise that have not received their own rate, the cash deposit rate will be the rate applicable to the China exporter that supplied that non-Chinese exporter. These deposit requirements, when imposed, shall remain in effect until further notice.

²⁶ See Order.

Notification to Importers

This notice also serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties and/or an increase in the amount of antidumping duties by the amount of the countervailing duties.

Notification to Interested Parties

We are issuing and publishing these results in accordance with sections 751(a)(1) and 777(i)(1) of the Act, and 19 CFR 351.213 and 351.221(b)(4).

Dated: November 8, 2022.
Lisa W. Wang,
Assistant Secretary for Enforcement and Compliance.

Appendix—List of Sections in the Preliminary Decision Memorandum

I. Summary

II. Background

III. Scope of the Order

IV. Partial Rescission of Administrative Review

V. Discussion of the Methodology

VI. Recommendation

[FR Doc. 2022-24915 Filed 11-15-22; 8:45 am]

BILLING CODE 3510-DS-P